DEPARTMENT OF HEALTH AND HUMAN SERVICES

Administration for Children and Families

45 CFR Parts 302, 303, 307, and 309

RIN 0970-AC75

Child Support Program Technical Corrections Notice of Proposed Rulemaking; Correction

AGENCY: Office of Child Support Enforcement (OCSE), Administration for Children and Families (ACF), Department of Health and Human Services (HHS).

ACTION: Notice of proposed rulemaking; correction.

SUMMARY: This document corrects the regulatory identification number (RIN) that appeared in the heading of a notice of proposed rulemaking published in the Federal Register of December 18, 2018. Through that document, OCSE proposed to eliminate regulations rendered outdated or unnecessary and make technical amendments to the Flexibility, Efficiency, and Modernization in Child Support Enforcement final rule, published on December 20, 2016, including proposing to amend the compliance date for review and adjustment of child support orders.

DATES: April 26, 2019.

SUPPLEMENTARY INFORMATION: In the notice of proposed rulemaking FR Doc 2018-27224, beginning on page 64803 in the issue of December 18, 2018, the regulatory identification number (RIN) appeared incorrectly in the heading of the document in the second column as RIN 0970-AC50. The RIN is corrected to read “RIN 0970-AC75”.

Dated: April 18, 2019.
Ann C. Agnew,
Executive Secretary to the Department, Department of Health and Human Services.

[FR Doc. 2019-08299 Filed 4-25-19; 8:45 am]

BILLING CODE 4184-25-P